DEPARTMENT OF ENERGY

Federal Energy Regulatory Commission

[Docket No. RP02-13-003]

Portland Natural Gas Transmission System; Notice of Compliance Filing

April 5, 2002.

Take notice that on April 1, 2002, Portland Natural Gas Transmission System (PNGTS) tendered for filing as part of its FERC Gas Tariff, Original Volume No. 1, to become effective on April 1, 2002:

Substitute Original Sheet No. 650

First Revised Sheet No. 203

PNGTS asserts that the purpose of its filing is to comply with the Commission's order issued on March 1, 2002 in Docket No. RP02-13-001. That order required PNGTS to modify its tariff to ensure that its long-term firm seasonal service is available on a nondiscriminatory basis, to provide certain additional transactional information regarding the existing seasonal contracts, and to make other conforming tariff changes.

PNGTS states that copies of this filing are being served on all jurisdictional customers, applicable state commissions, and participants in Docket No. RP02-13-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-8910 Filed 4-11-02; 8:45 am]

BILLING CODE 6717-01-P